POSTAL REGULATORY COMMISSION

[Docket No. CP2013-23; Order No. 1736]

Negotiated Service Agreement

AGENCY: Postal Regulatory Commission.

ACTION: Notice.

SUMMARY: The Commission is noticing a recent Postal Service filing concerning an amendment to the 2013 China Post Agreement. This notice informs the public of the filing, invites public comment, and takes other administrative steps.

DATES: Comments are due: June 7, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filing

III. Commission Action

I. Introduction

On May 29, 2013, the Postal Service filed notice, pursuant to 39 CFR 3015.5, that it has signed a written modification (Modification) of the 2013 China Post Agreement (Agreement).¹ The Modification pertains to rates for an inbound product the Agreement referred to as “yet to be launched.” Notice at 1. Pursuant to the Agreement, prior to launching the anticipated product, the Postal Service and China Post Group were to enter into a written modification of the Agreement, subject to approval from various entities, including the Postal Regulatory Commission. Id.

¹ Notice of the United States Postal Service of Filing Modification to the China Post Group-United States Postal Service Multi-Product Bilateral Negotiated Service Agreement, May 29, 2013 (Notice); see also Notice of United States Postal Service of Filing Functionally Equivalent Inbound Competitive Multi-Service Agreement with a Foreign Postal Operator, November 30, 2012 (Initial Notice).

II. Contents of Filing

The Postal Service's filing consists of the Modification and supporting documents addressing compliance with 39 U.S.C. 3633 and 39 CFR 3015.5 (filed under seal); a public Excel file containing redacted versions of financial workpapers filed under seal; the Notice; and two attachments to the Notice. Attachment 1 is a redacted copy of the Modification. Attachment 2 is the certified statement required by 39 CFR 3015.5(c)(2). Notice at 2. With respect to material filed under seal, the Postal Service incorporates by reference two previous Applications for Non-Public Treatment.²

² See Initial Notice, Attachment 4 and Response to Postal Regulatory Commission Order Nos. 1591 and 1598 Regarding Annex 6 to the China Post Group—United States Postal Service Multi-Product Bilateral Negotiated Service Agreement, Attachment, January 18, 2013.

The intended duration of the Modification is co-extensive with that of the Agreement. Id. Attachment 1.³

³ See Initial Notice at 3 (establishing January 1, 2013 as the effective date of the Agreement).

III. Commission Action

The Commission reopens Docket No. CP2013-23 for consideration of matters raised by the Notice. The Commission invites comments from interested persons on whether the Modification is consistent with the policies of 39 U.S.C. 3632 and 3633 and the requirements of 39 CFR part 3015. Comments are due no later than June 7, 2013. The public portions of this filing can be accessed via the Commission's Web site (http://www.prc.gov). Information on how to obtain access to non-public material appears at 39 CFR part 3007.

The Commission appoints James F. Callow to serve as Public Representative in this docket.

It is ordered:

1. The Commission reopens Docket No. CP2013-23 for consideration of matters raised by the Postal Service's Notice.

2. Pursuant to 39 U.S.C. 505, James F. Callow is appointed to serve as an officer of the Commission (Public Representative) to represent the interests of the general public in this proceeding.

3. Comments by interested persons in this proceeding are due no later than June 7, 2013.

4. The Secretary shall arrange for publication of this order in the Federal Register.

By the Commission.
Ruth Ann Abrams,
Acting Secretary.

[FR Doc. 2013-13278 Filed 6-4-13; 8:45 am]

BILLING CODE 7710-FW-P